DEPARTMENT OF THE INTERIOR

Fish and Wildlife Service

50 CFR Part 17

[Docket No. FWS-R2-ES-2010-0041;MO 92210-0-0008]

RIN 1018-AV97

Endangered and Threatened Wildlife and Plants; Endangered Status for Dunes Sagebrush Lizard

AGENCY: Fish and Wildlife Service, Interior.

ACTION: Proposed rule; reopening of comment period and announcement of public hearings.

SUMMARY: We, the U.S. Fish and Wildlife Service, announce the reopening of the public comment period on the December 14, 2010, proposed rule to list the dunes sagebrush lizard (Sceloporus arenicolus) under the Endangered Species Act of 1973, as amended (Act). We are reopening the comment period to allow all interested parties another opportunity to comment on the proposed rule. Comments previously submitted need not be resubmitted and will be fully considered in preparation of the final rule. We will also hold two public informational sessions and hearings (see DATES and ADDRESSES sections).

DATES: We will consider comments received on or before May 9, 2011. Comments must be received by 11:59 p.m. Eastern Time on the closing date. Any comments that we receive after the closing date may not be fully considered in the final decision on this action.

We will hold a public informational session from 3:30 p.m. to 5 p.m., followed by a public hearing from 6:30 p.m. to 8 p.m., on each of the following dates:

1. April 27, 2011: Midland, Texas.

2. April 28, 2011: Roswell, New Mexico.

ADDRESSES: You may submit comments by one of the following methods:

• Federal eRulemaking Portal: http://www.regulations.gov. Follow the instructions for submitting comments to Docket No. FWS-R2-ES-2010-0041.

• U.S. mail or hand-delivery: Public Comments Processing, Attn: FWS-R2-ES-2010-0041; Division of Policy and Directives Management; U.S. Fish and Wildlife Service; 4401 N. Fairfax Drive, Suite 222; Arlington, VA 22203.

We will post all comments on http://www.regulations.gov. This generally means that we will post any personal information you provide us (see the Public Comments section below for more information).

Information Sessions and Hearings

The public informational sessions and hearings will be held at the following locations:

1. Midland, Texas: Midland Center & Centennial Plaza, 105 N. Main Street, Midland, Texas 79701.

2. Roswell, New Mexico: ENMU—Roswell, Performing Arts Center, 64 University Blvd., Roswell, New Mexico 88202.

People needing reasonable accommodations in order to attend and participate in the public hearings should contact Wally “J” Murphy, New Mexico Ecological Services Field Office, at 505-761-4718 as soon as possible (see FOR FURTHER INFORMATION CONTACT). In order to allow sufficient time to process requests, please call no later than one week before the hearing date.

FOR FURTHER INFORMATION CONTACT: Wally “J” Murphy, Field Supervisor, New Mexico Ecological Services Field Office, 2105 Osuna NE., Albuquerque, NM 87113; by telephone 505-761-4781 or by facsimile 505-346-2542. Persons who use a telecommunications device for the deaf (TDD) may call the Federal Information Relay Service (FIRS) at 800-877-8339.

SUPPLEMENTARY INFORMATION:

Public Comments

We will accept written comments and information during this reopened comment period for the proposed rule to list the dunes sagebrush lizard (Sceloporus arenicolus) that was published in the Federal Register on December 14, 2010 (75 FR 77801). We intend that any final action resulting from this proposed rule will be based on the best scientific and commercial data available and be as accurate and as effective as possible. Therefore, we request comments or information from the public, other concerned government agencies, the scientific community, industry, or other interested parties concerning this proposed rule. Verbal testimony or written comments may also be presented during the public hearing. We will consider information and recommendations from all interested parties. We are particularly interested in comments concerning:

(1) Information on the dunes sagebrush lizard relevant to the factors that are the basis for making a listing determination for a species under section 4(a) of the Endangered Species Act of 1973, as amended (Act) (16 U.S.C. 1531 et seq.). These factors are:

(a) The present or threatened destruction, modification, or curtailment of its habitat or range;

(b) Overutilization for commercial, recreational, scientific, or educational purposes;

(c) Disease or predation;

(d) The inadequacy of existing regulatory mechanisms; or

(e) Other natural or manmade factors affecting its continued existence.

(2) Additional information concerning the range, distribution, and population size of this species, including the locations of any additional populations of this species.

(3) Any information on the biological or ecological requirements of the species.

If you submitted comments or information on the proposed rule (75 FR 77801, December 14, 2010) during the initial comment period from December 14, 2010, to February 14, 2011, please do not resubmit them. We will incorporate them into the public record as part of this comment period, and we will fully consider them in the preparation of our final determination. Our final determination will take into consideration all written comments and any additional information we receive during both comment periods.

You may submit your comments and materials concerning the proposed rule by one of the methods listed in the ADDRESSES section.

We will post your entire comment—including your personal identifying information—on http://www.regulations.gov. If you provide personal identifying information, such as your street address, phone number, or e-mail address, you may request at the top of your document that we withhold this information from public review. However, we cannot guarantee that we will be able to do so.

Comments and materials we receive, as well as supporting documentation we used in preparing the proposed rule, will be available for public inspection on http://www.regulations.gov at Docket No. FWS-R2-ES-2010-0041, or by appointment, during normal business hours, at the U.S. Fish and Wildlife Service, New Mexico Ecological Services Field Office (see FOR FURTHER INFORMATION CONTACT). You may obtain copies of the proposed rule on the Internet at http://www.regulations.gov at Docket Number FWS-R2-ES-2010-0041, or by mail from the New Mexico Ecological Services Field Office (see FOR FURTHER INFORMATION CONTACT section).

Background

It is our intent to discuss only those topics directly relevant to the proposed rule to list the dunes sagebrush lizard as endangered in this document.

On December 14, 2010, we published a proposed rule (75 FR 77801) to list the dunes sagebrush lizard, a lizard known from southeastern New Mexico and adjacent west Texas, as endangered under the Act. For a description of previous Federal actions concerning the dunes sagebrush lizard (formerly known as the sand dunes lizard), please refer to the proposed rule. In response to comments received during the initial public comment period, we have decided to allow the public more time to submit comments and to hold informational sessions as described previously.

If we finalize the rule as proposed, it would extend the Act's protections to this species. We have determined that critical habitat for the dunes sagebrush lizard is prudent but not determinable at this time. The final decision on whether to list the dunes sagebrush lizard as endangered will be based on the best scientific data available, including information obtained during the comment period.

Authors

The primary authors of this notice are the staff members of the New Mexico Ecological Services Field Office, Region 2, U.S. Fish and Wildlife Service.

Authority

The authority for this action is the Endangered Species Act of 1973 (16 U.S.C. 1531 et seq.).

Dated: March 11, 2011.
Will Shafroth,
Assistant Secretary for Fish and Wildlife and Parks.

[FR Doc. 2011-7339 Filed 4-6-11; 8:45 am]

BILLING CODE 4310-55-P